FEDERAL MARITIME COMMISSION

Sunshine Act Meetings

AGENCY HOLDING THE MEETING: Federal Maritime Commission.

TIME AND DATE: September 18, 2013; 10:00 a.m.

PLACE: 800 N. Capitol Street NW., First Floor Hearing Room, Washington, DC

STATUS: The meeting will be in Closed Session.

MATTERS TO BE CONSIDERED:

Closed Session

1. Briefing on the West Coast Marine Terminal Operators Agreement's PierPASS Traffic Mitigation Fee

2. China Value Added Tax Affecting Ocean Export Freight Shipments

CONTACT PERSON FOR MORE INFORMATION: Karen V. Gregory, Secretary, (202) 523-5725

Karen V. Gregory,
Secretary.

[FR Doc. 2013-22432 Filed 9-11-13; 11:15 am]

BILLING CODE 6730-01-P